AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before June 7, 2011.

FOR FURTHER INFORMATION CONTACT: Sylvia Joyner, Bureau for Management, Office of Administrative Services, Information and Records Division, U.S. Agency for International Development, Room 2.07C, RRB, Washington, DC 20523, (202) 712-5007 or via e-mail sjoyner@usaid.gov.

ADDRESSES: Send comments via e-mail at rjones@usaid.gov, United States Agency for International Development, Ronald Reagan Building, 1300 Pennsylvania Avenue, NW., Washington, DC 20523-8700, 202-712-0674.

SUPPLEMENTARY INFORMATION: OMB No.: OMB 0412-0562.

Form No.: AID 1570-13.

Title: Narrative/Time-Line Report.

Type of Review: Renewal of Information Collection.

Purpose: This collection is a management and monitoring report used by the Bureau for Democracy, Conflict and Humanitarian Assistance, Office of American Schools and Hospitals Abroad. The collection will ascertain that grant financed programs meet authorized objectives within the terms of agreements between its office and the recipients, which are United States Organizations that sponsor Overseas Institutions.

Annual Reporting Burden

Respondents: 130.

Total annual responses: 520.

Total annual hours requested: 1,560 hours.

Dated: March 30, 2011.
Mercedes Eugenia,
Acting Chief, Information and Records Division, Office of Management Services, Bureau for Management.

[FR Doc. 2011-8296 Filed 4-7-11; 8:45 am]

BILLING CODE 6116-01-M